DEPARTMENT OF THE TREASURY

Office of the Comptroller of the Currency

12 CFR Part 25

[Docket No. 02-09]

RIN 1557-AB95

Prohibition Against Use of Interstate Branches Primarily for Deposit Production

AGENCY: Office of the Comptroller of the Currency, Treasury (OCC).

ACTION: Final rule; correction.

SUMMARY: On June 6, 2002, the OCC, the Board of Governors of the Federal Reserve System, and the Federal Deposit Insurance Corporation (collectively the Agencies) published a final rule in the Federal Register that amended each Agency's regulation governing deposit production offices. This document corrects a typographical error in the OCC's regulation.

EFFECTIVE DATE: The correction made in this document is effective October 1, 2002.

FOR FURTHER INFORMATION CONTACT: Patrick T. Tierney, Attorney, Legislative and Regulatory Activities Division (202-874-5090).

SUPPLEMENTARY INFORMATION: The comma that appears at the end of paragraph (d)(1) of 12 CFR 25.62 should be a semicolon, and paragraph (d)(2) of § 25.62 should begin on a new line. Therefore, in the final rule FR Doc. 02-14130, published on June 6, 2002 (67 FR 38844), make the following correction:

1. On page 38847, in the third column, in § 25.62, paragraphs (d)(1) and (d)(2) are correctly revised to read as follows:

§ 25.62 Definitions.

* * * * *

(d) * * *

(1) With respect to a State bank, the State that chartered the bank;

(2) With respect to a national bank, the State in which the main office of the bank is located;

* * * * *

Dated: July 8, 2002.
Julie L. Williams,
First Senior Deputy Comptroller and Chief Counsel, Office of the Comptroller of the Currency.

[FR Doc. 02-17757 Filed 7-16-02; 8:45 am]

BILLING CODE 4810-33-P